DEPARTMENT OF AGRICULTURE

Agricultural Marketing Service

[Doc. No. AMS-LS-10-0103]

Sorghum Promotion, Research, and Information Program: Referendum

AGENCY: Agricultural Marketing Service, USDA.

ACTION: Notice of Opportunity to Participate in the Sorghum Promotion, Research, and Information Referendum.

SUMMARY: The Agricultural Marketing Service (AMS) is announcing that a referendum will be conducted among eligible sorghum producers and importers on the Sorghum Promotion, Research, and Information Order (Order), as authorized under the Commodity Promotion, Research, and Information Act of 1996 (Act).

DATES: Sorghum producers and importers will vote in the referendum during a 4-week period beginning on February 1, 2011, and ending February 28, 2011. To be eligible to participate in the referendum, producers and importers must certify that they or the entity they are authorized to represent are subject to the assessment and were engaged in the production or importation of sorghum between July 1, 2008, and December 31, 2010. An eligible person shall be entitled to cast only one vote in the referendum.

Form LS-379, Sorghum Promotion and Research Order Referendum Ballot, may be obtained by mail, fax, or in person from the Farm Service Agency (FSA) county offices from February 1, 2011, to February 28, 2011. Form LS-379 may also be obtained via the Internet at http://www.ams.usda.gov/lsmarketingprograms during the same time period. Sorghum producers should return completed forms and supporting documentation to the appropriate county FSA office by fax or in person no later than close of business February 28, 2011; or if returned by mail, must be postmarked by midnight February 28, 2011, and received in the county FSA office by close of business on March 7, 2011. Sorghum importers should return completed forms and supporting documentation to: Craig Shackelford, Marketing Programs Branch, Livestock and Seed Program, AMS, USDA, Room 2628-S, STOP 0251, 1400 Independence Avenue, SW., Washington, DC 20250-0251; Telephone: (202) 720-1115; Fax: (202) 720-1125; craig.shackelford@ams.usda.gov no later than close of business February 28, 2011; or if returned by mail, must be postmarked by midnight February 28, 2011, and received in the AMS office by close of business on March 7, 2011.

FOR FURTHER INFORMATION CONTACT: Kenneth R. Payne, Chief, Marketing Programs Branch, Livestock and Seed Program, AMS, USDA, Room 2628-S, STOP 0251, 1400 Independence Avenue, SW., Washington, DC 20250-0251; Telephone 202/720-1115; Fax 202/720-1125; or email to Kenneth.Payne@ams.usda.gov or Rick Pinkston, Field Operations Staff, FSA, USDA, at Telephone (202) 720-1857, Fax (202) 720-1096, or by email at Rick.Pinkston@wdc.usda.gov.

SUPPLEMENTARY INFORMATION: Pursuant to the Act (7 U.S.C. 7411-7425), it is hereby directed that a referendum be conducted to ascertain whether continuance of the Order is favored by those persons who have been engaged in the production or importation of sorghum from July 1, 2008, through December 31, 2010.

The representative period for establishing voter eligibility for the referendum shall be the period from July 1, 2008, through December 31, 2010. Persons who were engaged in the production or importation of sorghum who provide documentation, such as a sales receipt or remittance form, showing that they were engaged in the production or importation of sorghum from July 1, 2008, through December 31, 2010, are eligible to vote. Importers may provide U.S. Customs and Border Protection Service form 7501.

Eligible voters will be provided the opportunity to vote at the county FSA office where FSA maintains and processes the eligible voter's administrative farm records. For the eligible voter not participating in FSA programs, the opportunity to vote will be provided at the FSA office serving the county where the person owns or rents land. Eligible importers will be provided the opportunity to vote through the U.S. Department of Agriculture's (USDA) AMS office located in Washington, DC. Participation in the referendum is not mandatory.

On November 18, 2010, USDA published in the Federal Register (75 FR 70573), a final rule that sets forth procedures that will be used in conducting the referendum. The final rule includes definitions, provisions for supervising the referendum process, eligibility, procedures for obtaining and completing the form LS-379, required documentation showing that the person was engaged in the production or importation of sorghum from July 1, 2008, through December 31, 2010, where the referendum will be conducted, counting and reporting results, and disposition of the forms and records. Since the referendum will be conducted primarily at the county FSA offices, FSA employees will assist AMS by determining eligibility, counting requests, and reporting results.

Pursuant to the Act, USDA is conducting the required referendum from February 1, 2011, through February 28, 2011. Form LS-379 may be requested in person, by mail, or by facsimile from February 1, 2011, through February 28, 2011.

Form LS-379 may also be obtained via the Internet at: http://www.ams.usda.gov/lsmarketingprograms during the same 4-week period. Eligible voters would vote at the FSA office where FSA maintains and processes the person's, corporation's, or other entity's administrative farm records. For the person, corporation, or other entity eligible to vote that does not participate in FSA programs, the opportunity to vote would be provided at the FSA office serving the county where the person, corporation, or other entity owns or rents land.

Voters can determine the location of county FSA offices by contacting (1) The nearest FSA office, (2) the State FSA office, or (3) through an online search of FSA's Web site at: http://www.fsa.usda.gov/pas/default.asp. From the options available on this Web site select “State Offices,” click on your State, select “County Offices,” and click on the map to select a county.

Form LS-379 and supporting documentation may be returned in person, by mail, or facsimile to the appropriate county FSA office. Form LS-379 and accompanying documentation returned in person or by facsimile, must be received in the appropriate FSA office prior to the close of business on February 28, 2011. Form LS-379 and accompanying documentation returned by mail must be postmarked no later than midnight of February 28, 2011, and received in the county FSA office by close of business on March 7, 2011.

In accordance with Paperwork Reduction Act (44 U.S.C. Chapter 35), the information collection requirements have been approved under OMB number 0581-0093.

Authority: 7 U.S.C. 7411-7425.

Dated: December 15, 2010.
Robert C. Keeney,
Acting Associate Administrator, Agricultural Marketing Service.

[FR Doc. 2010-33135 Filed 1-3-11; 8:45 am]

BILLING CODE 3410-02-P